DEPARTMENT OF COMMERCE

National Oceanic and Atmospheric Administration

RIN 0648-XA193

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Essential Fish Habitat Review Committee (EFHRC) will hold a work session by conference call to follow up on work assignments from its December 20, 2010 meeting.

DATES: The EFHRC conference call will be held Friday, February 25, 2011, from 9 a.m. to 12 p.m. Pacific Time.

ADDRESSES: A public listening station will be available at the Pacific Council office, 7700 NE Ambassador Place, Suite 101, Portland, OR 97220; telephone: (503) 820-2280. Please contact the Council Staff Officer for accommodations.

FOR FURTHER INFORMATION CONTACT: Kerry Griffin, Staff Officer; telephone: (503) 820-2280.

SUPPLEMENTARY INFORMATION: The purpose of the EFHRC meeting is to follow up on the December 20, 2010 meeting, and to check on assignments and progress toward developing a report for the April, 2011 Pacific Council meeting. The initial meeting highlighted several issues to address, as the Pacific Council and the National Marine Fisheries Service (NMFS) conduct a review of Essential Fish Habitat (EFH) descriptions for Pacific Coast groundfish species. Major topics of discussion are likely to include schedule and timing; soliciting data and information from interested parties; components and products of the review; and other topics.

Groundfish EFH was first identified and described by the Pacific Council in 1998, and revised in 1996. The Pacific Council considered proposed revisions to groundfish EFH in 2008, but declined to change EFH descriptions, pending the more thorough review now underway. Detailed information on existing EFH descriptions and identification is available by contacting the Pacific Council directly.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Mr. Kris Kleinschmidt at (503) 820-2280 at least 5 days prior to the meeting date.

Dated: February 1, 2011.
Tracey L. Thompson,
Acting Director, Office of Sustainable Fisheries, National Marine Fisheries Service.

[FR Doc. 2011-2512 Filed 2-3-11; 8:45 am]

BILLING CODE 3510-22-P